DEPARTMENT OF DEFENSE

Department of the Air Force

Notice of Intent to Prepare an Environmental Impact Statement for Basing F-35A Operational Aircraft

AGENCY: United States Air Force, Air Combat Command and Air National Guard.

ACTION: Notice of Intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the Air Force is issuing this notice to advise the public of its intent to prepare an Environmental Impact Statement (EIS) to assess the potential environmental impacts of establishing operational F-35 Joint Strike Fighter (JSF) aircraft at one or more existing Air Force installations within the continental United States.

The proposed basing alternatives include: Mt. Home AFB, Idaho; Hill AFB, Utah; Burlington Air Guard Station (AGS), Vermont; Shaw AFB/McEntire Joint National Guard Base (JNGB), South Carolina (SC); and Jacksonville AGS, Florida.

Each candidate base is an alternative. For Mt. Home AFB, Hill AFB, and Shaw AFB/McEntire JNGB, the potential environmental impacts will be analyzed for no action and in increments of 24 primary assigned aircraft (PAA). For Burlington AGS and Jacksonville AGS, the potential environmental impacts will be analyzed for no action and in increments of 18 and 24 primary assigned aircraft.

The Air Force version of the F-35 JSF, designated F-35A, is a conventional take-off, multiple-role fighter with an emphasis on air-to-ground missions. The aircraft was designed to supplement and eventually replace legacy aircraft as well as complement the air-to-air mission of the F-22A Raptor. At any of the alternative locations, the beddown action would involve personnel changes, facility construction and modifications, and aircraft operations.

Scoping: In order to effectively define the full range of issues to be evaluated in the EIS, the Air Force will determine the scope of the EIS (i.e., what will be covered and in what detail) by soliciting scoping comments from interested state and federal agencies and interested members of the public through the Federal Register and various media in the local areas of concern. Scoping comments should be submitted to the address below by the date indicated. The Air Force will also hold a series of scoping meetings to further solicit input regarding the scope of the proposed action and alternatives.

DATES: The Air Force intends to hold scoping meetings in the following communities: January 11-14, 2010 Grand View, Twin Falls, Boise, and Mt. Home Idaho; January 19-22, 2010 Ogden, Layton, Callao Utah; Wendover Nevada; January 25-28, 2010 Winooski, Vermont; Littleton, New Hampshire; Watertown, New York; February 1-4, 2010 Sumter, Eastover, and Kingstree, South Carolina; Augusta and Brunswick Georgia; February 8-12 2010 Jacksonville, Avon Park, Lake Wales and Palatka Florida. The scheduled dates, times, locations and addresses for the meetings will be published in local media a minimum of 15 days prior to the scoping meetings. All meetings will be held from 6 p.m. to 8 p.m.

Comments will be accepted at any time during the environmental impact analysis process. However, to ensure the Air Force has sufficient time to consider public input in the preparation of the Draft EIS, comments should be submitted to the address below by March 1, 2010.

FOR FURTHER INFORMATION CONTACT: Ms. Sheryl Parker, HQ ACC/A7PS, 129 Andrews Street, Suite 337, Langley AFB, VA 23665-2769, telephone 757/764-9334.

Bao-Anh Trinh, YA-3, DAF,
Air Force Federal Register Liaison Officer.

[FR Doc. E9-30671 Filed 12-29-09; 8:45 am]

BILLING CODE 5001-05-P